DEPARTMENT OF THE INTERIOR

[LLMT921 09 L51100000.GD0000 LVEMCE280000; NDM 97633]

Notice of the Availability of the BNI Coal, Ltd., Federal Coal Lease Application Environmental Assessment and Notice of Public Hearing

AGENCY: Bureau of Land Management, Interior.

ACTION: Notice of availability and notice of public hearing.

SUMMARY: In accordance with the Federal coal management regulations at 43 CFR 3422 and 3425, the BNI Coal Lease by Application Environmental Assessment (EA) is available for public review and comment. A public hearing will be held to receive comments on the EA and associated Finding of No Significant Impact (FONSI), Fair Market Value (FMV), and Maximum Economic Recovery (MER) of the coal resources for BNI Coal, Ltd.'s (BNI) Federal Coal Lease Application NDM 97633.

DATES: The public hearing will be held at 9 a.m. on April 30, 2009. Written comments must be received on or before 4:30 p.m. on May 13, 2009.

ADDRESSES: The public hearing will be held at the BLM North Dakota Field Office Conference Room, 99 23rd Avenue West, Dickinson, North Dakota. Written comments on the FMV and MER should be sent to the Bureau of Land Management, Montana State Office, 5001 Southgate Drive, Billings, MT 59101-4669. Written comments or questions on the EA should be sent to Angela Wetz, Natural Resource Specialist, North Dakota Field Office, Bureau of Land Management, 99 23rd Avenue West, Dickinson, ND 58601. Copies of the EA are available at the North Dakota Field Office at the above address. The EA is also available on the Internet at http://www.blm.gov/mt/st/en/fo/north_dakota_field.html.

SUPPLEMENTARY INFORMATION: The land included in Coal Lease Application NDM 97633 contains an estimated 4.1 million tons of recoverable coal reserves. It is described as follows:

T. 142 N., R. 84 W., 5th P.M

Sec. 32: N2NW, SWNW, NWSW; 160.00 acres.

The land is adjacent to BNI's Center Mine, located in Oliver County, North Dakota.

The EA addresses the cultural, socioeconomic, environmental and cumulative impacts that would likely result from leasing these coal lands. Two alternatives are addressed in the EA:

Alternative 1: (Proposed Action) The tract would be leased, as applied for.

Alternative 2: (No Action) The application would be rejected or denied. The Federal coal reserves would be bypassed.

Proprietary data marked as confidential may be submitted to the Bureau of Land Management in response to this solicitation of public comments. Data so marked shall be treated in accordance with the laws and regulations governing the confidentiality of such information. A copy of the comments submitted by the public on FMV and MER, except those portions identified as proprietary by the author and meeting exemptions stated in the Freedom of Information Act, will be available for public inspection at the Bureau of Land Management, 5001 Southgate Drive, Billings, Montana 59101-4669, during regular business hours (9 a.m. to 4 p.m.) Monday through Friday. Other comments will be available for public inspection at the Bureau of Land Management, North Dakota Field Office, 99 23rd Avenue West, Dickinson, ND 58601 (9 a.m. to 4 p.m.) Monday through Friday.

Written comments on the FMV and MER should address, but not necessarily be limited to, the following:

1. The quality and quantity of the coal resources;

2. The mining method or methods which would achieve MER of the coal including specifications of the seams to be mined, timing and rate of production, restriction to mining, and the inclusion of the tract in an existing mining operation;

3. The FMV appraisal including but not limited to the evaluation of the tract as an incremental unit of an existing mine, selling price of the coal, mining and reclamation costs, net present value discount factors, depreciation and other tax accounting factors, value of the surface estate, and any comparable sales data on similar coal lands. The values given above may or may not change as a result of comments received from the public and changes in market conditions between now and when final economic evaluations are completed.

Before including your address, phone number, e-mail address, or other personal identifying information in your comment, please be aware that your entire comment, including your personal identifying information, may be made publicly available at any time. While you may ask us in your comment to withhold your personal identifying information from public review, we cannot guarantee that we will be able to do so.

FOR FURTHER INFORMATION CONTACT: Ed Hughes, Supervisory Industry Economist, (406-896-5057), Bureau of Land Management, Montana State Office, 5001 Southgate Drive, Billings, Montana 59101.

Phillip C. Perlewitz,
Chief, Branch of Solid Minerals.

[FR Doc. E9-8353 Filed 4-10-09; 8:45 am]

BILLING CODE 4310-$$-P